DEPARTMENT OF COMMERCE

National Oceanic and Atmospheric Administration

[I.D. 040105C]

Fisheries of the Caribbean, Gulf of Mexico, and South Atlantic; Extension of the Gulf of Mexico Charter Vessel/Headboat Permit Moratorium

AGENCY: National Marine Fisheries Service (NMFS), National Oceanic and Atmospheric Administration (NOAA), Commerce.

ACTION: Notice of intent; request for comments.

SUMMARY: The Gulf of Mexico Fishery Management Council (Council) and NMFS intend to prepare a draft supplemental environmental impact statement (DSEIS) in support of a proposed Amendment to Extend the Charter Vessel/Headboat Permit Moratorium (Moratorium Amendment). The DSEIS will evaluate alternatives for allowing the permit moratorium to expire, extending the moratorium for a finite time period, or establishing a permanent limited access program. The purpose of this notice of intent is to solicit public comments on the range of alternatives and scope of issues to be addressed in the DSEIS.

DATES: Written comments on the scope of the DSEIS must be received by 5 p.m. May 9, 2005.

ADDRESSES: You may submit comments on the scope of the DSEIS by any of the following methods:

• E-mail: 0648-AS70.NOI@noaa.gov. Include in the subject line of the e-mail comment the following document identifier: Charter Headboat Permit Moratorium.

• Mail: Andy Strelcheck, Southeast Regional Office, NMFS, 263 13th Avenue South, St. Petersburg, FL 33701.

• Fax: 727-824-5308; Attention: Andy Strelcheck. Requests for the scoping document may be directed to the Gulf of Mexico Fishery Management Council, The Commons at Rivergate, 3018 U.S. Highway 301 North, Suite 1000, Tampa, FL 33619; telephone: 813-228-2815; fax: 813-225-7015. Scoping documents are also available to download at http://www.gulfcouncil.org.

FOR FURTHER INFORMATION CONTACT: Stu Kennedy (phone: 813-228-2815; fax: 813-225-7015; e-mail: Stu.Kennedy@gulfcouncil.org); or Andy Strelcheck (phone: 727-824-5305; fax: 727-824-5308; e-mail: Andy.Strelcheck@noaa.gov).

SUPPLEMENTARY INFORMATION: The Council and NMFS intend to prepare a DSEIS in support of the proposed Moratorium Amendment. For-hire vessel permits were initially required in the coastal migratory pelagic (CMP) fishery starting in 1987 and in the reef fish fishery in 1997. Amendments establishing the charter vessel/headboat permit moratorium for the CMP fishery (Amendment 14) and the Reef Fish fishery (Amendment 20) were approved by NMFS on May 6, 2003, and implemented on June 16, 2003 (68 FR 26280). The intended effect of these amendments was to cap the number of for-hire vessels operating in these two fisheries at the current level (as of March 29, 2001) while the Council evaluated whether limited access programs were needed to constrain effort. In this proposed Moratorium Amendment, the Council is considering alternatives that would: allow the moratorium on for-hire reef fish and CMP permits to expire; extend the moratorium for a finite period of time (5 or 10 years); or establish a permanent limited access program. In any case, except for allowing the moratorium to expire, there would be no new permits issued. The DSEIS will evaluate the impacts of these alternatives. Alternatives which have been under consideration are described in detail in The Scoping Document for Extending the Charter Vessel/Headboat Permit Moratorium by Amending the FMPs for: Reef Fish (Amendment 25) and Coastal Migratory Pelagics (Amendment 17), which is available from the Council (see ADDRESSES). The Council is soliciting public comment on the range of alternatives and scope of issues that should be considered in this DSEIS.

In accordance with NOAA's Administrative Order NAO 216-6, Section 502(c)4, the Council previously held nine scoping hearings during June 2004 to solicit input from interested parties on proposed actions and alternatives identified in the above-mentioned scoping document. These hearings were held in the following locations: Port Isabel, Port Aransas, and Galveston, TX; Kenner, LA; Biloxi, MS; Orange Beach, AL; Destin, Madeira Beach, and Naples, FL.

Additionally, public comments may be accepted at the following Council meetings and during public hearings that will be announced in future Federal Register notices:

July 11-14, 2005, Diamondhead All-Suite Beach Resort, 2000 Estero Boulevard, Ft. Myers Beach, FL 33931; and

September 12-15, 2005, New Orleans, LA (Location TBA).

The meetings will be physically accessible to people with disabilities. Requests for sign language interpretation or other auxiliary aids should be directed to the Gulf Council (see ADDRESSES).

The completed DSEIS associated with the draft Moratorium Amendment will be filed with the U.S. Environmental Protection Agency (EPA), announced in the Federal Register, and open to public comment for a 45-day period. This procedure is pursuant to regulations issued by the Council on Environmental Quality (CEQ) for implementing the National Environmental Policy Act (NEPA), and to NOAA's Administrative Order 216-6 on complying with NEPA and the CEQ regulations.

The Council will consider public comments received on the DSEIS in developing the final supplemental environmental impact statement (FSEIS), and before taking final action on the Moratorium Amendment. The Council will submit both the final amendment and the supporting FSEIS to NMFS for Secretarial review, approval, and implementation under the requirements of the Magnuson-Stevens Fishery Conservation and Management Act.

NMFS will announce, through a document published in the Federal Register, the availability of the final Moratorium Amendment for public review during the Secretarial review period. During Secretarial review, NMFS will also file the FSEIS with the EPA for a final 30-day public comment period. This comment period will be concurrent with the Secretarial review period and will end prior to final agency action to approve, disapprove, or partially approve the final Moratorium Amendment.

NMFS will announce, through a notice published in the Federal Register, all public comment periods on the final Moratorium Amendment, any proposed implementing regulations, and its associated FSEIS. NMFS will consider all public comments received during the Secretarial review period, whether they are on the final amendment, any proposed regulations, or the FSEIS, prior to final agency action.

Dated: April 1, 2005.
Alan D. Risenhoover,
Acting Director, Office of Sustainable Fisheries, National Marine Fisheries Service.

[FR Doc. 05-6939 Filed 4-6-05; 8:45 am]

BILLING CODE 3510-22-S